FEDERAL HOUSING FINANCE BOARD

Sunshine Act Meeting

Time and Date: The meeting of the Board of Directors is scheduled to begin at 10 a.m. on Wednesday, April 9, 2003.

Place: Board Room, Second Floor, Federal Housing Finance Board, 1777 F Street, NW., Washington, DC 20006.

Status: The entire meeting will be open to the public.

Matters to be Considered: Appointment of Federal Home Loan Bank Directors. Section 7 of the Federal Home Loan Bank Act (12 U.S.C. 1427) requires the Federal Housing Finance Board to appoint public interest directors to the boards of directors of the Federal Home Loan Banks.

FOR FURTHER INFORMATION CONTACT: Mary H. Gottlieb, Paralegal Specialist, Office of General Counsel, by telephone at 202/408-2826 or by electronic mail at gottliebm@fhfb.gov.

By the Federal Housing Finance Board.
Arnold Intrater,
General Counsel.

[FR Doc. 03-8433 Filed 4-2-03; 4:01 pm]

BILLING CODE 6725-01-P